FEDERAL MINE SAFETY AND HEALTH REVIEW COMMISSION

Senior Executive Service; Performance Review Board

AGENCY: Federal Mine Safety and Health Review Commission.

ACTION: Notice.

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Effective on December 4, 2025.

FOR FURTHER INFORMATION CONTACT: Joshua Poole, Senior Management and Program Analyst, Federal Mine Safety and Health Review Commission, (202) 577-6831.

SUPPLEMENTARY INFORMATION: This Notice announces the appointment of the following primary and alternate members to the Federal Mine Safety and Health Review Commission PRB:

Primary Members

Debra Gibbs, Executive Director, Occupational Safety and Health Review Commission

Michael Jeffries, Executive Director, U.S. Federal Labor Relations Authority

Timothy Baker, Commissioner, Federal Mine Safety and Health Review Commission

Alternate Member

Craig Brown, Deputy Director, Selective Service System (acting)

Authority: 5 U.S.C. 4313(c)(4).

Joshua Poole,
Senior Management and Program Analyst, Federal Mine Safety and Health Review Commission.

[FR Doc. 2025-21881 Filed 12-3-25; 8:45 am]

BILLING CODE 6735-01-P